DEPARTMENT OF EDUCATION

Office of Special Education and Rehabilitative Services; Grant Applications Under Part D, Subpart 2 of the Individuals With Disabilities Education Act, Research and Innovation To Improve Services and Results for Children With Disabilities

AGENCY: Department of Education.

ACTION: Notice inviting applications for new awards for fiscal year (FY) 2002.

SUMMARY: This notice announces closing dates, applicable priorities, and other information regarding the transmittal of applications for two priorities in FY 2002 under the Special Education—Research and Innovation to Improve Services and Results for Children with Disabilities Program. This program is authorized by the Individuals with Disabilities Education Act (IDEA), as amended.

Please note that significant dates for the availability and submission of applications, as well as important fiscal information, are listed in a table at the end of this notice.

Waiver of Rulemaking

It is generally our practice to offer interested parties the opportunity to comment on proposed priorities. However, section 661(e)(2) of IDEA makes the rulemaking procedures in the Administrative Procedure Act (5 U.S.C. 553) inapplicable to the priorities in this notice.

General Requirements

(a) The projects funded under this notice must make positive efforts to employ and advance in employment in project activities qualified individuals with disabilities. (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) If a project maintains a Web site, it must include relevant information and documents in an accessible form.

(e) In a single application an applicant must address only one target area under Absolute Priority 1 or one focus area under Absolute Priority 2 in this notice. Under Absolute Priority 1, there are three broad focus areas with specific target areas under each focus area. Under Absolute Priority 2, there are four focus areas.

Page Limit: Part III of each application submitted under a priority in this notice, the application narrative, is where an applicant addresses the selection criteria that are used by reviewers in evaluating the application. You must limit Part III to the equivalent of no more than the number of pages listed under each applicable priority and in the table at the end of this notice, using the following standards:

• A “page” is 8.5″ × 11″ (on one side only) with one-inch margins (top, bottom, and sides).

• Double-space (no more than three lines per vertical inch) all text in the application narrative, including titles, headings, footnotes, quotations, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography or references, or the letters of support. However, you must include all of the application narrative in Part III.

We will reject your application if—

• You apply these standards and exceed the page limit; or

• You apply other standards and exceed the equivalent of the page limit.

Instructions for Transmittal of Applications

Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2002, the U.S. Department of Education is continuing to expand its pilot project of electronic submission of applications to include additional formula grant programs and additional discretionary grant competitions. Special Education—Research and Innovation to Improve Services and Results for Children with Disabilities is one of the programs included in the pilot project. If you are an applicant under this program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application, fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the program at: http://e-grants.ed.gov.

We have included additional information about the e-APPLICATION pilot project (see Parity Guidelines between Paper and Electronic Applications) in the application package.

Research and Innovation To Improve Services and Results for Children With Disabilities [CFDA Number 84.324]

Purpose of Program: To produce, and advance the use of, knowledge to improve educational and early intervention results for infants, toddlers, and children with disabilities.

Eligible Applicants

Under Absolute Priority 1 and under focus areas 1 and 2 of Absolute Priority 2, eligible applicants are State educational agencies (SEAs), local educational agencies (LEAs), institutions of higher education (IHEs), other public agencies, private nonprofit organizations, outlying areas, freely associated States, and Indian tribes or tribal organizations.

For focus area 3 under Absolute Priority 2, eligible applicants are limited to LEAs, and LEAs in consortia with one or more other LEAs, IHEs, other public agencies, or other organizations. However, in the event that the LEA forms a consortium with other organizations, the LEA must be the applicant and act in a manner consistent with 34 CFR 75.129.

For focus area 4 under Absolute Priority 2, eligible applicants are limited to SEAs, and SEAs in consortia with one or more LEA, IHE, or private nonprofit organizations. However, an LEA or SEA must be the applicant and act in a manner consistent with 34 CFR 75.129.

Note: LEAs are not eligible unless in consortia with SEAs.

Applicable Regulations: (a) The Education Department General Administrative Regulations (EDGAR) in 34 CFR parts 74, 75, 77, 80, 81, 82, 85, 86, 97, 98, and 99; and (b) The selection criteria for the priorities under this program; these criteria are taken from the EDGAR general selection criteria. The specific selection criteria for each priority are included in the application package for the applicable competition.

Note: The regulations in 34 CFR part 86 apply to institutions of higher education only.

Priority

Under 34 CFR 75.105(c)(3), we consider only applications that meet one of the following priorities:

Absolute Priority 1—Directed Research Projects (84.324D)

This priority supports projects that (1) advance and improve the knowledge base and (2) improve the practice of professionals, parents, and others providing early intervention, special education, and related services. This includes professionals who work with children with disabilities in regular educational environments and natural environments.

Under this priority, projects must support innovation, development, exchange of information, and the transfer of research into knowledge and practice. Projects must (1) use exceedingly rigorous quantitative or qualitative research and evaluation methods and (2) communicate appropriately with target audiences.

Maximum Award: We will reject any application that proposes a budget exceeding $180,000 for a single budget period of 12 months.

Page Limit: The maximum page limit under this priority is 50 double-spaced pages. Standards for the maximum page limit are described after the “GENERAL REQUIREMENTS” section of this notice.

Also, under this priority, we will fund projects under specific target areas within the broad focus areas of: (A) Access to Learning; (B) Accountability and Reform; and (C) Social and Emotional Development and Intervention. The specific target areas under the three broad focus areas are as follows:

Focus A—Access to Learning

Target Area (1)—Access to the General Education Curriculum for Students with Significant Cognitive Disabilities

Background

This target area supports research to increase our understanding of access to the general education curriculum for students with significant cognitive disabilities. A project must investigate what access to the general education curriculum entails and how to provide that access in the least restrictive environment (LRE).

The barriers and challenges concerning access to the general education curriculum for students with significant cognitive disabilities are multifaceted and involve the following:

(A) Professional Development. IHEs are not adequately preparing or graduating school personnel to work with students with significant cognitive disabilities in regular school settings. In addition, recruitment and retention of qualified personnel is a major concern, and attrition is a big drain on resources.

(B) General Education Curriculum. Some districts have not aligned their curriculum and instruction to learning standards for grades K-12. Many special education teachers do not have sufficient content background to be active partners in the curriculum. In addition, there is a pervasive lack of family and community involvement in curriculum development. Differentiated instruction is often nonexistent because school personnel often do not know how to identify and modify the curriculum and instruction to produce positive student outcomes by meeting the needs of diverse learners. This is especially true for students with significant cognitive disabilities; and

(C) LRE Issues. There are major barriers in providing access to the general education curriculum including student participation in statewide assessments when students are in separate sites. Including students with disabilities in public accountability systems and high stakes assessments has been described as a major disincentive for (i) including students with significant cognitive disabilities in inclusive schools and (ii) providing them access to the general education curriculum.

Universal design for learning (UDL) holds great promise for teaching, learning and assessment, and new media technologies to respond to differences among individual learners. For more information on UDL, please visit the following Web sites:

• Center for Applied Special Technology's (CAST) http://www.cast.org/udl/

• Universal Design for Learning from ERIC/OSEP: http://www.cec.sped.org/osep/ud-sec3.html

• A Curriculum Every Student Can Use: Design Principles for Student Access at: http://www.cec.sped.org/osep/udesign.html

Target Area

A project funded under this target area must—

(a) Describe and define access to the general education curriculum for students with significant cognitive disabilities, including student participation, student progress, and location of service;

(b) Analyze and address how to meet the barriers and challenges related to professional development, the general education curriculum, and LRE issues, such as the challenges identified in the background section for this target area;

(c) Create partnerships that include both an SEA and an LEA to design, implement, evaluate, and disseminate high quality access to the general education curriculum in inclusive school environments; and

(d) Employ these six key features in designing, implementing, evaluating, and disseminating access:

• Family, community and school partnerships.

• Performance standards for students.

• Curricula and established accountability systems that are aligned with State initiatives.

• School accountability for all students.

• Ongoing professional development systems.

• Universal design for learning; and

(e) Increase our understanding of access to the general education curriculum for students with significant cognitive disabilities by (1) investigating what access to the general education curriculum entails, and how to provide it in the LRE, and (2) documenting student results using quantitative and qualitative data.

Target Area (2)—Instructional Interventions and Results for Children With Disabilities

Background

The President's No Child Left Behind (NCLB) initiative is based on four principles: accountability for results, use of scientifically based methods, expansion of local flexibility, and empowerment of parents and students. Successful implementation of IDEA requires the consistent application of these principles.

With over 70 percent of children with disabilities spending over 40 percent of their school day in regular classrooms (U.S. Department of Education, 2000), both regular and special education teachers need relevant and accessible information about how students with disabilities learn curriculum and learn about accommodations, supports, and resources.

Research is needed to describe, test, and validate instructional practices that have the potential for generating positive results for children with disabilities as they strive to meet State and local standards and performance goals set for all students, especially in high schools.

Core courses such as Algebra I, foreign languages, and science are considered “gateway courses,” which are critical to students who plan to earn a high school diploma and pursue transition goals that include postsecondary education. A better understanding of pedagogy, the use of universal design, and the learning needs of students with disabilities in certain core courses: (1) Would increase the rate of students with disabilities who graduate with a high school diploma; and (2) would improve the learning opportunities for all students who have special learning needs.

Target Area

A project supported under this target area must investigate issues related to providing instruction in the general education curriculum for children with disabilities in high school level courses (those earning Carnegie Units toward high school graduation with a diploma) in Algebra I, foreign language, or science. These issues must include, but are not limited to, the following:

(a) The relationship of universally designed instruction and curriculum to results for students with disabilities in Algebra I, foreign language, or science, including measures linked to passing high school exams and obtaining a diploma.

(b) Contextual variables that influence access to the general education curriculum for students with disabilities, including, for example, classroom design; the relative roles of regular educators and special educators; groupings or management strategies, curricular design, delivery, or materials; and family and staff interaction.

(c) Universally designed instructional and curricular approaches that ensure that students with disabilities have access to the general education curriculum in these core courses.

Target Area (3)—Pre-Literacy and Early Literacy for Infants, Toddlers, and Other Young Children with Visual Impairments Including Blindness

Background

Current research documents the link between the development of pre-literacy and early literacy skills for infants, toddlers, and other young children and subsequent reading and academic success. The development of pre-literacy and early literacy skills for young children with visual impairments, including blindness, poses additional challenges for families and professionals.

Target Area

A project funded under this target area must investigate issues and promising practices in the development of pre-literacy and early literacy skills for young children with visual impairments. The project must address ages birth to 3, 3 through 6 years, or the full age range of birth through 6 years. The project must address, but is not limited to, the following issues:

(1) Assessment of the needs of young children with visual impairments as those needs relate to the development of pre-literacy and early literacy skills.

(2) Use of new or innovative intervention strategies to promote pre-literacy and early literacy skills for all young children, including those who have visual impairments.

(3) Integration of intervention strategies in communication and other developmental domains with pre-literacy and early literacy intervention methods for infants, toddlers, and preschoolers with visual impairments.

(4) For the development of pre-literacy and early literacy skills, access to and use of new and developing technologies with young children with visual impairments.

Focus B—Accountability and Reform

Target Area (1)—Universal Design of Assessments

Background

This target area supports research on universal design of assessments for use with students with disabilities. The term “universally designed assessments” refers to large-scale assessments that are designed to be accessible and valid for the widest possible range of students. Federal laws call for the participation of students with disabilities in State and districtwide assessments, with accommodations and alternate assessments provided as needed. Universal design of assessments will not eliminate the need for accommodations or alternate assessments. However, it will expand the range of students who can participate in general assessments, reduce the need for accommodations, and minimize problems of comparability and validity of scores if accommodations are used.

Universal design has implications for all phases of test development, including definition of constructs, formulation of test specifications, development of items, test tryouts and analysis, test revision, and item bias review.

Information on universal design of assessments is available on the Web site of the National Center on Educational Outcomes: http://www.coled.umn.edu/nceo/

Target Areas

A project funded under this target area must conduct research on one or both of the following:

(1) Development and testing of techniques for universal design of assessments as applied to students with disabilities.

(2) Demonstration of the impact of universal design of assessments on the participation and performance of students with disabilities and on the validity of their scores.

Target Area (2)—Charter Schools and Students With Disabilities

Background

This target area supports research specific to students with disabilities in charter schools. A study of data collected in 1997 and 1998 indicates that students with disabilities are served in charter schools, but the types of disabilities and the services provided vary considerably by specific school and curricular focus. The study is available at the following Web site: http://www.uscharterschools.org/pub/uscs_docs/fr/sped_natl_study.htm

National surveys of charter schools supported by the U.S. Department of Education and an evaluation of the U.S. Public Charter Schools Programs indicate that (1) students with disabilities are well represented in charter schools, and (2) even charter schools not specifically designed for students with special needs attract a large proportion of students with disabilities. These surveys and assessments are available at the following Web sites: http://www.ed.gov/pubs/charter4thyear/ http://www.ed.gov/offices/OUS/PES/chartschools/index.html

Additionally, small scale research by the Department's Office of Special Education Programs (OSEP) and recently completed by the National Association of State Directors of Special Education reinforces the important role of State charter school policies and State special education policies in the ability of charter schools to meet their obligations under IDEA. This research is available at the following Web site: http://www.nasdse.org/project_search_doc2.pdf

Target Area

A project supported under this target area must investigate one or more of the following issues related to charter schools and students with disabilities:

(1) How and why students with disabilities and their parents choose charter schools.

(2) How and why charter schools attract students with disabilities to their schools.

(3) Policies and practices used by charter schools to determine the initial and continued eligibility of students for special education and related services.

(4)(i) The relationship among State charter school legislation, authorizing entities and procedures, appeal procedures, special education rules or regulations, and other State level policies; and (ii) how these policies affect the access to special education and related services and delivery of services to students with disabilities in charter schools.

(5) Differences and similarities between newly established or converted charter schools and longer-established charter schools in terms of access and services to students with disabilities.

(6) The role of special education and related services in the different phases of developing and operating charter schools (i.e., authorization, start-up, oversight and supervision, review and renewal).

Because data on students with disabilities in the wide variety of charter schools is needed, we encourage proposals for projects that combine case study and survey approaches.

Target Area (3) “—Accountability, Reform, and Results for Children With Disabilities

Background

IDEA requires a strong emphasis on public accountability for improved results for students with disabilities. Given that achievement levels and graduation rates of students with disabilities in high schools are at levels significantly lower than for their nondisabled peers, it is critical that we study schoolwide approaches to the effective education of students with disabilities in high schools, as well as those effective practices designed to meet the individual needs of students with disabilities.

Target Area

A project funded under this target area must—

(1) Identify, describe, and validate schoolwide approaches that involve significant collaboration, such as those approaches used in nationally recognized high schools that consistently support and produce good results for students with disabilities; and

(b) Address the following issues:

(1) How special education services are delivered in high-performing high schools.

(2) How students with disabilities are attaining their goals in the general education curriculum in high performing high schools.

(3) How special education and regular education programs have coordinated the educational services for students with disabilities.

(4) How these three issues and other issues are related to positive results for students with disabilities.

The Assistant Secretary encourages applications that emphasize accountability for results, expand local flexibility, and increase empowerment of parents and students.

Focus (C)—Social and Emotional Development and Intervention

Target Area (1)—Research on Early Childhood Mental Health

Background

The elements of early intervention practice that support the social and emotional development of young children with or at risk of disabilities, are as important as the elements that support linguistic and cognitive development.

Target Area

A project funded under this target area must—

(a) Conduct research to document effective practices for identifying and addressing the affective and behavioral problems of young children with or at risk of disabilities.

(b) Focus on the mental health of infants and toddlers (0-2 years old), or preschoolers (3-5 years old) or both, who are receiving services under the part C or part B programs of IDEA.

(c) Describe steps the applicant will take to ensure that it will disseminate findings from its research to research and training centers (RTCs) funded by the Office of Special Education and Rehabilitative Services. These centers include the two children's mental health rehabilitative research and training centers (RRTCs) funded by the National Institute on Disability and Rehabilitation Research (NIDRR) and the RTCs funded by OSEP on the “Development of Infants, Toddlers, and Preschoolers with or At Risk of Disabilities” and “Evidence-Based Practice: Young Children with Challenging Behavior.”

Target Area (2)—Assessing Self-Determination Skills

Background

Self-determination has been identified as an important outcome of the educational process for children with disabilities. Research to date has not addressed: (1) The critical components of the cultural issues involved with providing self-determination skills to children with disabilities from culturally and linguistically diverse backgrounds; (2) the self-determination needs of children in elementary schools; and (3) the development of measures for self-determination skills.

Target Area

A project funded under this target area must pursue research that focuses on one of the following issues:

(a) Cultural variables that influence the development and implementation of self-determination skills in children with disabilities, including children from culturally and linguistically diverse backgrounds. These may include (1) variables that promote the development of effective self-determination skills; and (2) the role of families from culturally and linguistically diverse backgrounds.

(b) The development of benchmarks, policies, and procedures to monitor and report the progress of students in self-determination skills. These skills may include, for example, leadership, problem solving, goal setting and self advocacy.

(c) The identification of: (1) Developmentally appropriate self-determination skills for young children with disabilities; and (2) effective teaching strategies and curricula directed to elementary-school-aged students. These teaching strategies and curricula should be relevant to families, program implementers, and policymakers at the community, district, building, and classroom levels. The strategies and curricula may also include information on how to promote the importance of early self-determination for the later success of children with disabilities.

Target Area (3)—Implementation of Schoolwide Positive Behavior Supports in High School

Background

Since the inclusion of the term positive behavior support in the reauthorization of IDEA in 1997, much attention has been directed at implementing schoolwide systems of positive behavior support. The concept has come to mean a broad range of systemic and individualized strategies for achieving important social and learning outcomes while preventing challenging behavior of all students. This systemic emphasis is based on a three-tier prevention model that provides: primary interventions—interventions for all students; secondary interventions—either targeted interventions or interventions for targeted small groups of children; and a third level of interventions—very intensive, individualized interventions for a small number of children.

Throughout the past four years, schoolwide positive behavior support models, developed with OSEP support, have been implemented at the school, district, and State levels and yielded positive results among elementary and middle school students. Success in high schools has been less evident. Thus, additional research is needed to determine (1) the barriers and challenges of implementing schoolwide positive behavior support in high schools, and (2) the critical components needed to duplicate success at this level.

Target Area

A project supported under this target area must address the following:

(a) The critical features that make high schools different from middle schools.

(b) The strategies and systemic components needed to implement the three-tier schoolwide approach to positive behavior support at the high school level.

(c) The critical features needed to effectively implement each of the three tiers.

(d) The relationship between schoolwide positive behavior support and academic achievement.

The Secretary encourages projects to address (1) the types and patterns of behavioral problems exhibited in high schools; and (2) the use of alternative settings and more restrictive placements in high schools to address these problems.

Absolute Priority 2—Model Demonstration Projects for Children with Disabilities (84.324T)

This priority supports model demonstration projects that develop, implement, evaluate, and disseminate new or improved approaches for providing early intervention, special education, and related services. These are services provided to children with disabilities, ages birth through 21.

Projects supported under this priority are expected to be major contributors of models or components of models for service providers and for outreach projects funded under IDEA.

Requirements for all Model Demonstration Projects

(a) A model demonstration project funded under this priority must—

(1) Use exceedingly rigorous quantitative or qualitative evaluation methods and data;

(2) Evaluate the model by using multiple measures of results to determine the effectiveness of the model and its components or strategies;

(3) Produce detailed procedures and materials to enable others to replicate the model; and

(4) Communicate appropriately with target audiences through means such as special education technical assistance providers and disseminators, professional journals and other publications, conference presentations, or a Web site.

(b) Federal financial participation for a project funded under this priority will not exceed 90 percent of the total annual costs of the project (see section 661(f)(2)(A) of IDEA).

(c) In addition to the annual two-day Project Directors' meeting in Washington, DC (as specified in paragraph (c) of the GENERAL REQUIREMENTS section of this notice), a project must budget for another annual meeting in Washington, DC to collaborate with the Federal project officer and the other projects funded under this priority, to share information, and to discuss issues related to development of a model, evaluation, and project implementation.

Maximum Award for All Model Demonstration Projects: We will reject any application that proposes a budget exceeding $180,000 (exclusive of any matching funds) for a single budget period of 12 months.

Page Limits for All Model Demonstration Projects: The maximum page limit for this priority is 50 double-spaced pages. Standards for the maximum page limit are described after the GENERAL REQUIREMENTS section of this notice.

Under this absolute priority, we will fund projects in the following focus areas only:

Focus Area 1—Model Demonstration Projects To Support Quality Educational and Transition and Aftercare Programs in the Justice System for Youth with Disabilities

Background

This focus area supports model projects that demonstrate new or innovative models for youth in the justice system.

Ensuring that youth acquire educational skills is one of the most effective approaches to reducing recidivism. Yet, students in jails, detention centers, and short-term facilities receive considerably poorer instruction and less time in instruction.

Transition and aftercare services are the most neglected components in dealing with this group of children. The primary problem stems from the lack of communication between multiple service agencies and an overall lack of community support for delinquent youths. This critical transition should involve a seamless system of care, identifying the needs and services to be provided by multiple agencies if needed to ensure successful reintegration and after care support.

Focus Area

A model funded under this focus area must address a comprehensive coordinated system to facilitate the successful reintegration of youth from a facility back into his or her home school.

A model must address one of the following: (1) The provision of quality special education services within facilities; or (2) the provision of quality transition and aftercare services to support the reintegration of youth with disabilities into their home schools and communities.

A model addressing the provision of special education services must address, but is not limited to, one or more of the following:

(a) The requirements of IDEA as they apply to youth in facilities, including: least restrictive environment, access to the general education curriculum, and implementation of Individualized Education Programs (IEPs).

(b) Immediate screening of each youth's present levels of performance and services needed while in the facility.

(c) Efficient transfer of IEP records.

(d) Coordination with each youth's home school on the current IEP and processes for ensuring the transfer to the home school of credit, and acceptance of work completed by the youth within the facility.

(e) An identification process, if needed, for a youth with disabilities who has previously not been identified before entering the facility.

(f) Provision of needed remediation and instruction in basic skills that has been shown to be effective by scientifically based research, especially in reading.

A model addressing transition and aftercare must address, but is not limited to, one or more of the following:

(a) The requirements of IDEA as they apply to youth in facilities, including: least restrictive environment, access to the general education curriculum, and implementation of IEPs.

(b) Efficient transfer of each youth's IEP records and educational performance and progress while the youth is in in the facility.

(c) Coordination with each youth's home school on the current IEP and processes for ensuring the transfer to the home school for credit, and acceptance of work completed by the youth within the facility.

(d) Mentoring programs and supportive transition networks to ensure the successful reintegration of the youth into the home school and community.

(e) Parental involvement.

OSEP intends to fund an equal number of models in (1) the provision of special education services and (2) the provision of transition and aftercare.

Focus Area 2—Strengthening Childcare Infrastructures for Infants, Toddlers, and Preschoolers With Disabilities From Underserved Families and Communities

Background

This focus area supports projects that demonstrate new or innovative childcare models that address the developmental needs of infants, toddlers, and preschoolers with disabilities from underserved families and communities.

Focus Area

A project funded under this focus must—

(a) Identify and support children with disabilities from underserved families and communities.

(b) Address the special and individualized intervention needs of young children without removing the children from inclusive settings and typical experiences.

(c) In identifying and addressing challenges that contribute to the uneven provision of services, incorporate multiple formal and informal service delivery systems that have evolved in a community over the years.

(d) Address, under this focus area, one or more of the following issues:

(1) The lack of available mental health services for children under age 6.

(2) Adverse home or community conditions.

(3) Cultural differences between service providers and families.

(4) Differences between what childcare programs offer and what families of young children with disabilities or at-risk for disabilities need or want.

(5) Children living with mentally ill family members.

(6) Children with complex medical conditions.

(7) Children in families dealing with poverty, substance abuse, or violence;

(e) Measure the effectiveness of models with regard to children's development by assessing multiple influences longitudinally in reporting on the impact of the variables of community, family, and individual intervention on child development. Measures of a child's competence must include observation of a child's underlying functioning over time with regard to the interventions the child has received.

(f) Examine whether the proposed interventions were implemented as planned, whether the participants for whom the program is designed actually participated, and how much the program costs.

A project funded under this focus area must schedule (1) one trip annually to Washington, DC (as specified in paragraph (c) of the GENERAL REQUIREMENTS section of this notice), (2) one trip annually to Washington, DC (as specified in the Requirements for All Demonstration Projects section of this priority), and (3) an additional meeting, to take place at the beginning of year one, to identify collaborations across projects under this focus area that can result in increased sample sizes and planned variations of critical variables, interventions, and outcomes.

Focus Area 3—Agency Participation in Transition

Background

This focus area supports model projects that demonstrate (1) new or improved approaches to participation in transition by multiple systems and (2) successful interagency collaboration in planning transition from school to work, postsecondary education, or other post-school activities.

Focus Area

A project funded under this focus area must—

(a) Involve collaboration between multiple systems, such as education; vocational rehabilitation; workforce development; employer organizations; community networks; health, youth, and adult service agencies; and other relevant agencies;

(b) Improve transitions among the types of systems referred to in paragraph (a) and eliminate service disruptions, including waiting lists for students exiting school; and

(c) Include student IEPs that are based on each student's interests, preferences, and needs and include, as appropriate, a statement of interagency responsibilities and any needed linkages. The linkages must include, as appropriate, postschool environments such as postsecondary schools, employment, adult-service programs, and local One-Stop Career Centers created under the Workforce Investment Act.

(d) Schedule (1) one trip annually to Washington, DC (as specified in paragraph (c) of the GENERAL REQUIREMENTS section of this notice), (2) one trip annually to Washington, DC (as specified in the Requirements for All Demonstration Projects section of this priority), and (3) an additional meeting to take place by the end of the first month of the project.

Focus Area (4)—Assessments and Accountability

Background

This focus area supports State educational agencies (SEAs) and local education agencies (LEAs) (in consortia with SEAs) in developing and evaluating new or improved models for the meaningful and effective participation of students with disabilities in large-scale assessments and accountability systems.

Focus Area

A project funded under this focus area must develop and evaluate a model that includes all students with disabilities—those who participate in general large-scale assessments (with and without accommodations) and those who participate in alternative assessments.

A project funded under this focus area must also develop and evaluate a model with the following characteristics:

(a) The model must fully include students with disabilities, and those students must have the same impact as other students in State and local systems of educational accountability.

(b) Public reports on assessments and accountability must fully and clearly present data on the participation and performance of students with disabilities, aggregated with the data of all other students and disaggregated for students with disabilities.

(c) In its decisions regarding corrective actions, resource allocation, improvement plans, and similar processes, the SEA or LEA must give assessment data of students with disabilities consideration equal to the consideration it gives data of all other students.

(d) An SEA or LEA must provide IEP teams with training and support in making decisions about how students with disabilities will participate in assessments.

(e) The model must provide for ongoing evaluation to determine if undesired patterns of participation or undesired consequences are occurring. This evaluation may include, but is not limited to: determining that all students with disabilities are, in fact, participating in assessments, reports and accountability; tracking the use of “nonallowed” accommodations that limit how performance data can be used; studying the characteristics of students who participate in alternate assessments; and analyzing retention and drop-out rates to detect undesired trends.

(f) The model must provide for continued improvement of the assessment and accountability system over time by means of monitoring, evaluation, systematic training, dissemination, and similar processes.

For Applications Contact: Education Publications Center (ED Pubs), P.O. Box 1398, Jessup, Maryland 20794-1398. Telephone (toll free): 1-877-4ED-Pubs (1-877-433-7827). FAX: 301-470-1244. If you use a telecommunications device for the deaf (TDD) you may call (toll free) 1-877-576-7734.

You may also contact Ed Pubs via its Web site http://www.ed.gov/pubs/edpubs.html

Or you may contact Ed Pubs at its e-mail address: edpubs@inet.ed.gov

If you request an application from ED Pubs, be sure to identify the competition by the appropriate CFDA number.

FOR FURTHER INFORMATION CONTACT: Grants and Contracts Services Team, U.S. Department of Education, 400 Maryland Avenue, SW., room 3317, Switzer Building, Washington, DC 20202-2550. Telephone: (202) 260-9182.

If you use a TDD you may call the Federal Information Relay Service (FIRS) at 1-800-877-8339.

Individuals with disabilities may obtain this document in an alternative format (e.g., Braille, large print, audiotape, or computer diskette) on request to the contact persons listed under FOR FURTHER INFORMATION CONTACT.

Individuals with disabilities may obtain a copy of the application package in an alternative format by contacting the Department as listed above. However, the Department is not able to reproduce in an alternative format the standard forms included in the application package.

INDIVIDUALS WITH DISABILITIES EDUCATION ACT
[APPLICATION NOTICE FOR FISCAL YEAR 2002]
CFDA No. and name | Applications available | Application deadline date | Estimated range of awards | Estimated average size of awards | Maximum award (per year)* | Project period | Estimated number of awards | Page limit **
84.324D Directed Research Projects | 06/19/02 | 07/22/02 | $152,000-180,000 | $179,000 | $180,000 | Up to 36 |  | 50
Broad Focus Area A—Access to Learning |  |  |  |  |  |  | 10
Broad Focus Area B—Accountability and Reform |  |  |  |  |  |  | 8
Broad Focus Area C—Social and Emotional |  |  |  |  |  |  | 8
Development and Intervention |  |  |  |  |  |  |  |
84.324T Model Demonstration Projects for Children with Disabilities | 06/19/02 | 07/22/02 | 115,000-180,000 | 150,000 | $180,000 | Up to 48 mos. |  | 50
Focus Area 1—Model Demonstration Projects to Support Quality Educational and Transition and Aftercare Programs in the Justice System for Youth with Disabilities |  |  |  |  |  |  | 4
Focus Area 2—Strengthening Childcare Infrastructures for Infants, Toddlers, and Preschoolers with Disabilities from Underserved Families and Communities |  |  |  |  |  |  | 2
Focus Area 3—Agency Participation in Transition |  |  |  |  |  |  | 2
Focus Area 4—Assessments and Accountability |  |  |  |  |  |  | 2
*Consistent with EDGAR (34 CFR 75.104(b)), we will reject any application that proposes a project funding level for any year that exceeds the stated maximum award amount for that year.
**Applicants must limit the Application Narrative, Part III of the Application, to the page limits noted above. Please refer to the “Page Limit” requirements and the page limit standards described in the “General Requirements” section included under each priority description. We will reject and will not consider an application that does not adhere to this requirement.

Note: The Department of Education is not bound by any estimates in this notice.

Electronic Access to This Document

You may view this document, as well as all other Department of Education documents published in the Federal Register, in text or Adobe Portable Document Format (PDF) on the internet at the following site: www.ed.gov/legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo/nara/index.html

Program Authority: 20 U.S.C. 1405, 1461, 1472, 1474, and 1487.

Dated: June 13, 2002.
Andrew J. Pepin,
Acting Assistant Secretary for Special Education and Rehabilitative Services.

[FR Doc. 02-15395 Filed 6-18-02; 8:45 am]

BILLING CODE 4000-01-P